ENVIRONMENTAL PROTECTION AGENCY

[FRL-9765-4]

Clean Air Act Operating Permit Program: Order Responding to Petition for Objection to State Operating Permit for U.S. Steel—Granite City Works, Granite City, Illinois

AGENCY: Environmental Protection Agency (EPA).

ACTION: Notice of final order on petition to object to Clean Air Act (Act) operating permit.

SUMMARY: This document announces that the EPA Administrator has partially granted and partially denied a petition from the Interdisciplinary Environmental Clinic at the Washington University School of Law, submitted to EPA on behalf of the American Bottom Conservancy (Petitioner). The Petitioner objected to the operating permit issued by the Illinois Environmental Protection Agency (IEPA) for the U.S. Steel—Granite City Works (USGW) facility, located in Granite City, Illinois.

Sections 307(b) and 505(b)(2) of the Act provide that a petitioner may ask for judicial review of those portions of the petition which EPA denies in the United States Court of Appeals for the appropriate circuit. Any petition for review shall be filed within 60 days from the date this notice appears in the Federal Register, pursuant to section 307 of the Act.

ADDRESSES: You may review copies of the final order, the petition, and other supporting information at the EPA Region 5 Office, 77 West Jackson Boulevard, Chicago, Illinois 60604. If you wish to examine these documents, you should make an appointment at least 24 hours before visiting day. Additionally, the final order for the USGW petition is available electronically at: http://www.epa.gov/region07/air/title5/petitiondb/petitions/uss_2nd_response2009.pdf.

FOR FURTHER INFORMATION CONTACT: David Ogulei, Environmental Engineer, Air Permits Section, Air Programs Branch, Air and Radiation Division, EPA, Region 5, 77 West Jackson Boulevard, Chicago, Illinois 60604, telephone (312) 353-0987.

SUPPLEMENTARY INFORMATION: The Act affords EPA a 45-day period to review and object, as appropriate, to Title V operating permits proposed by state permitting authorities. Section 505(b)(2) of the Act authorizes any person to petition the EPA Administrator within 60 days after the expiration of the EPA review period to object to a Title V operating permit if EPA has not done so. A petition must be based only on objections to the permit that were raised with reasonable specificity during the public comment period provided by the state, unless the petitioner demonstrates that it was impracticable to raise issues during the comment period, or the grounds for the issues arose after this period.

On August 16, 2011, the Petitioner filed a petition requesting that EPA object to issuance of the USGW Title V permit pursuant to section 505(b)(2) of the Act and 40 C.F.R. § 70.8(d). The Petitioner alleges that (1) the permit's use of emission factors fails to provide periodic monitoring designed to ensure compliance with permit limits and lacks practical enforceability; (2) several permit limits lack adequate periodic monitoring requirements to ensure compliance with the limits; (3) the permit fails to respond to EPA's Order dated January 21, 2011, with respect to excess emissions associated with startup, breakdown, and malfunctions; and (4) the permit fails to respond to EPA's Order to include applicable requirements from the related construction permit for a new Gateway Energy & Coke Company coke plant that IEPA considers to be part of the USGW facility.

On December 3, 2012, the Administrator issued an order partially granting and partially denying the petition. The order explains the reasons behind EPA's conclusion.

Date: December 14, 2012.
Susan Hedman,
Regional Administrator, Region 5.

[FR Doc. 2012-31315 Filed 12-27-12; 8:45 am]

BILLING CODE 6560-50-P